SMALL BUSINESS ADMINISTRATION

[License No. 04/04-0298]

Harbert Mezzanine Partners II SBIC, L.P.: Notice Seeking Exemption Under Section 312 of the Small Business Investment Act, Conflicts of Interest

Notice is hereby given that Harbert Mezzanine Partners II SBIC, L.P., 2100 Third Avenue North, Suite 600, Birmingham, AL 35203, a Federal Licensee under the Small Business Investment Act of 1958, as amended (“the Act”), in connection with the financing of a small concern, has sought an exemption under Section 312 of the Act and Section 107.730, Financings which constitute Conflicts of Interest of the Small Business Administration (“SBA”) Rules and Regulations (13 CFR 107). Harbert Mezzanine Partners II SBIC, L.P. proposes to provide follow-on subordinated debt financing to Employment Staffing Group, Inc., 414 N Lafayeet Street, Shelby, NC, 28150. Harbert Mezzanine Partners III, LP, an Associate of Harbert Mezzanine Partners II SBIC, L.P, holds a 10.6% ownership interest in Employment Control Holdings Company, LLC of which Employment Staffing Group, Inc. is a wholly owned subsidiary. Therefore, Employment Staffing Group, Inc. is an Associate of Harbert Mezzanine Partners II SBIC, L.P.

The financing is brought within the purview of § 107.730(a) of the Regulations because Employment Staffing Group, Inc., Employment Control Holdings Company, LLC, and Harbert Mezzanine Partners III, LP are Associates of Harbert Mezzanine Partners II SBIC, L.P. Therefore this transaction requires prior SBA exemption.

Notice is hereby given that any interested person may submit written comments on the transaction, within fifteen days of the date of this publication, to the Associate Administrator for Investment and Innovation, U.S. Small Business Administration, 409 Third Street SW., Washington, DC 20416.

Javier E. Saade,
Associate Administrator, Office of Investment and Innovation.

[FR Doc. 2014-15143 Filed 6-26-14; 8:45 am]

BILLING CODE P